DEPARTMENT OF VETERANS AFFAIRS

[OMB Control No. 2900-0706]

Agency Information Collection Activity Under OMB Review: Application for Reimbursement of National Exam Fee

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0706.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0706” in any correspondence.

SUPPLEMENTARY INFORMATION:

Authority: Public Law 108-454 and Public Law 111-377; 38 U.S.C. 5101 and CFR 21.1030.

Title: Application for Reimbursement of National Exam Fee, VA Form 22-0810.

OMB Control Number: 2900-0706.

Type of Review: Revision of a currently approved collection.

Abstract: VA will use the information collected to determine whether the claimant qualifies to receive reimbursement for a claimed national test, and if so, the amount of the reimbursement of the fee charged.

An agency may not conduct or sponsor, and a person is not required to respond to a collection of information unless it displays a currently valid OMB control number. The Federal Register Notice with a 60-day comment period soliciting comments on this collection of information was published at 88 FR 60743 on Tuesday, September 5, 2023, Page 60743.

Affected Public: Individuals and Households.

Estimated Annual Burden: 57 hours.

Estimated Average Burden Time per Respondent: 15 minutes.

Frequency of Response: Once.

Estimated Number of Respondents: 230.

By direction of the Secretary:
Maribel Aponte,
VA PRA Clearance Officer, Office of Enterprise and Integration, Data Governance Analytics, Department of Veterans Affairs.

[FR Doc. 2023-25179 Filed 11-14-23; 8:45 am]

BILLING CODE 8320-01-P